DEPARTMENT OF HEALTH AND HUMAN SERVICES

Recharter of the Advisory Group on Prevention, Health Promotion, and Integrative and Public Health

AGENCY: Office of the Assistant Secretary for Health, Office of the Secretary, Department of Health and Human Services.

ACTION: Notice.

SUMMARY: The U.S. Department of Health and Human Services announces the recharter of the Advisory Group on Prevention, Health Promotion, and Integrative and Public Health.

FOR FURTHER INFORMATION CONTACT: Corinne Graffunder, Designated Federal Officer (DFO) of the Advisory Group, Office of the Associate Director for Policy; Centers for Disease Control and Prevention; 1600 Clifton Road, NE., MS D-28; Atlanta, GA 30329; Telephone: (404) 639-7514; and/or the following person may be contacted: Olga Nelson, Committee Management Officer, Office of the Assistant Secretary for Health; Department of Health and Human Services; 200 Independence Avenue SW., Room 714B; Washington, DC 20201; Telephone: (202) 690-5205; Fax: (202) 401-2222.

SUPPLEMENTARY INFORMATION: The President issued Executive Order 13544, dated June 10, 2010, to comply with the statutes under Section 4001 of the Patient Protection and Affordable Care Act, Public Law 111-148. This legislation mandated that the President establish the Advisory Group on Prevention, Health Promotion, and Integrative and Public Health (the “Advisory Group”) within the Department of Health and Human Services. To comply with the authorizing legislation and directive and guidelines under the FACA, the charter to establish the Advisory Group was appropriately filed on June 24, 2010. The Advisory Group was established as a non-discretionary federal advisory committee.

Under FACA, it is stipulated that the charter for a federal advisory committee must be renewed every two years in order for the committee to continue to operate. Since the Advisory Group was established by Presidential directive, appropriate action had to be taken by the President or agency head to authorize continuation of the Advisory Group. On November 23, 2011, the President issued Executive Order 13591. This directive gives authorization for the Advisory Group to continue to operate until September 30, 2012.

Objectives and Scope of Activities. The Advisory Group provides recommendations and advice to the National Prevention, Health Promotion, and Public Health Council (hereafter referred to as the “Council”). The Advisory Group provides assistance to the Council in carrying out its mission. The Advisory Group develops policy and program recommendations and advises the Council on lifestyle-based chronic disease prevention and management, integrative health care practices, and health promotion.

Membership and Designation. The Advisory Group is authorized to consist of not more than 25 non-federal members, who are appointed by the President. In appointing members, the President is to ensure that the Advisory Group includes a diverse group of licensed health professionals, including integrative health practitioners who have expertise in (1) worksite health promotion; (2) community services, including community health centers; (3) preventive medicine; (4) health coaching; (5) public health education; (6) geriatrics; and (7) rehabilitation medicine. The Advisory Group currently has 22 members.

The Advisory Group reports to the Surgeon General. The Surgeon General is to select one of the appointed members to serve as Chair of the Advisory Group. Jeffrey Levi, Ph.D., Executive Director of Trust for America's Health, was selected by the Surgeon General to serve as Chair of the Advisory Group. Mr. Levi has occupied this leadership position since the Advisory Group was established. The non-federal members of the Advisory Group shall be classified as special government employees (SGEs).

Administrative Management and Support. HHS provides funding and administrative support for the Advisory Group to the extent permitted by law within existing appropriations. Staff within Office of the Assistant Secretary for Health (OASH) provide management and oversight for support services provided to the Advisory Group. OASH is a staff division within Office of the Secretary, HHS.

One amendment was proposed and approved for the charter. The area of consideration from which the DFO can be selected has been expanded. A copy of the charter and information on activities and accomplishments of the Advisory Group can be obtained from the designated contacts or by accessing the FACA database that is maintained by the GSA Committee Management Secretariat. The Web site for the FACA database is http://fido.gov/facadatabase/.

Authority: Executive Order 13544, dated June 10, 2010, as statutorily mandated under Section 4001 of the Patient Protection and Affordable Care Act, Public Law 111-148, dated March 23, 2010. Authority to continue the Advisory Group on Prevention, Health Promotion, and Integrative and Public Health (hereafter referred to as the “Advisory Group”) is given under Executive Order 13591, dated November 23, 2011. The Advisory Group on Prevention, Health Promotion, and Integrative and Public Health is governed by provisions of the Federal Advisory Committee Act (FACA), Public Law 92-463, as amended (5 U.S.C. App.), which sets forth standards for the formation and use of advisory committees.

Dated: July 13, 2012.
Regina Benjamin,
VADM, USPHS, Surgeon General.

[FR Doc. 2012-17445 Filed 7-17-12; 8:45 am]

BILLING CODE 4150-28-P